DEPARTMENT OF TRANSPORTATION

Federal Aviation Administration

14 CFR Part 39

[Docket No. FAA-2012-1245; Directorate Identifier 2012-NE-41-AD; Amendment 39-17279; AD 2012-24-09]

RIN 2120-AA64

Airworthiness Directives; Lycoming Engines and Continental Motors, Inc. Reciprocating Engines

AGENCY: Federal Aviation Administration (FAA), DOT.

ACTION: Final rule; correction.

SUMMARY: The FAA is correcting an airworthiness directive (AD) that published in the Federal Register. That AD applies to Lycoming Engines TSIO-540-AK1A, and Continental Motors, Inc. TSIO-360-MB, TSIO-360-SB, and TSIO-360-RB reciprocating engines, with certain Hartzell Engine Technologies (HET) turbochargers, model TA0411, part number 466642-0001; 466642-0002; 466642-0006; 466642-9001; 466642-9002; or 466642-9006, or with certain HET model TA0411 turbochargers overhauled or repaired since August 29, 2012. The Summary paragraph and the Applicability paragraph list an incorrect engine model for Lycoming Engines. This document corrects those errors. In all other respects, the original document remains the same.

DATES: This final rule is effective January 14, 2013. The effective date for AD 2012-24-09 (77 FR 72203, December 5, 2012) remains December 20, 2012.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Christopher Richards, Aerospace Engineer, Chicago Aircraft Certification Office, FAA, 2300 E. Devon Ave., Des Plaines, IL 60018; phone: 847-294-7156; fax: 847-294-7834; email: christopher.j.richards@faa.gov.

SUPPLEMENTARY INFORMATION: Airworthiness Directive 2012-24-09, Amendment 39-17279 (77 FR 72203, December 5, 2012), currently requires removing the affected turbochargers from service before further flight.

As published, the Summary paragraph and the Applicability paragraph are incorrect.

No other part of the preamble or regulatory information has been changed; therefore, only the changed portion of the final rule is being published in the Federal Register.

The effective date of this AD remains December 20, 2012.

Correction of Non-Regulatory Text

In the Federal Register of December 5, 2012, AD 2012-24-09; Amendment 39-17279 is corrected as follows:

On page 72203, in the second column, on line 3 of the Summary, change Lycoming Engines TSIO-540-AK1A to “Lycoming Engines TIO-540-AK1A.”

Correction of Regulatory Text

§ 39.13 [Corrected]

In the Federal Register of December 5, 2012, on page 72204, in the third column, the first sentence of paragraph (c) of AD 2012-24-09 is corrected to read as follows:

* * * * *

(c) This AD applies to Lycoming Engines TIO-540-AK1A, and Continental Motors, Inc. TSIO-360-MB, TSIO-360-SB, and TSIO-360-RB reciprocating engines with any of the following turbochargers installed:

* * * * *

Issued in Burlington, Massachusetts, on January 7, 2013.
Colleen M. D'Alessandro,
Assistant Manager, Engine & Propeller Directorate, Aircraft Certification Service.

[FR Doc. 2013-00525 Filed 1-11-13; 8:45 am]

BILLING CODE 4910-13-P